DEPARTMENT OF THE INTERIOR

National Park Service

[NPS-WASO-NAGPRA-NPS0034561; PPWOCRADN0-PCU00RP14.R50000]

Notice of Inventory Completion: Department of Anthropology and Geography, Colorado State University, Fort Collins, CO

AGENCY: National Park Service, Interior.

ACTION: Notice.

SUMMARY: The Department of Anthropology and Geography, Colorado State University has completed an inventory of human remains and associated funerary objects, in consultation with the appropriate Indian Tribes or Native Hawaiian organizations and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Department of Anthropology and Geography. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Department of Anthropology and Geography at the address in this notice by October 20, 2022.

FOR FURTHER INFORMATION CONTACT: Jeannine Pedersen-Guzmán, Archaeological Collections Coordinator, Colorado State University, Department of Anthropology and Geography, 1787 Campus Delivery, Fort Collins, CO 80523, telephone (970) 491-5497, email J.Pedersen-Guzman@colostate.edu.

SUPPLEMENTARY INFORMATION: Notice is here given in accordance with the Native American Graves Protection and Repatriation Act (NAGPRA), 25 U.S.C. 3003, of the completion of an inventory of human remains and associated funerary objects under the control of the Department of Anthropology and Geography, Colorado State University, Fort Collins, CO. The human remains and associated funerary objects are believed to have been removed from the coastal region of Southern California.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Department of Anthropology and Geography professional staff with the California Native American Heritage Commission and Dr. Wendy Teeter, UCLA Repatriation Coordinator, and in consultation with the Santa Ynez Band of Chumash Mission Indians of the Santa Ynez Reservation, California. The Yuhaaviatam of San Manuel Nation (previously listed as San Manuel Band of Mission Indians, California); two non-federally recognized Indian groups: the Juaneño Band of Mission Indians Acjachemen Nation and the San Gabriel Band of Mission Indians; and the Tii'at Society—Traditional Council of Pimu, a Tongva Community Organization were invited to consult but did not participate.

History and Description of the Remains

At an unknown date, human remains representing, at minimum, one individual were removed from what is reasonably believed to be the coastal region of Southern California. The human remains—an adult male—were donated to the Department of Anthropology and Geography before or during 1990 by an unknown donor. The human remains were given the number 90.4 (CSU NAGRPA Case #64). Collection and archival work conducted by Professors Dr. Jason LaBelle and Dr. Ann Magennis between 2005-2010 failed to yield any additional documentation regarding the remains of this individual. No known individual was identified. The 10 associated funerary objects include four olivella (Olivella biplicatta) marine shells, one unmodified animal tooth fragment, three bird (possibly Common raven, Corvus corax) bones (including the claw), and two sea mammal bones (one identified as a harbor seal (Phoca vitulina).

The human remains are reasonably believed to be Native American based on their physical attributes and the associated funerary objects. The associated funerary objects have a geographic connection to the coast of Southern California and indicate a cultural affiliation to a coastal Indian Tribe in the region.

Determinations Made by the Department of Anthropology and Geography, Colorado State University

Officials of the Department of Anthropology and Geography, Colorado State University have determined that:

• Pursuant to 25 U.S.C. 3001(9), the human remains described in this notice represent the physical remains of one individual of Native American ancestry.

• Pursuant to 25 U.S.C. 3001(3)(A), the 10 objects described in this notice are reasonably believed to have been placed with or near individual human remains at the time of death or later as part of the death rite or ceremony.

• Pursuant to 25 U.S.C. 3001(2), there is a relationship of shared group identity that can be reasonably traced between the Native American human remains and associated funerary objects and the Santa Ynez Band of Chumash Mission Indians of the Santa Ynez Reservation, California.

Additional Requestors and Disposition

Lineal descendants or representatives of any Indian Tribe or Native Hawaiian organization not identified in this notice that wish to request transfer of control of these human remains and associated funerary objects should submit a written request with information in support of the request to Jeannine Pedersen-Guzmán, Archaeological Collections Coordinator, Colorado State University, Department of Anthropology and Geography, 1787 Campus Delivery, Fort Collins, CO 80523, telephone (970) 491-5497, email J.Pedersen-Guzman@colostate.edu, by October 20, 2022. After that date, if no additional requestors have come forward, transfer of control of the human remains and associated funerary objects to the Santa Ynez Band of Chumash Mission Indians of the Santa Ynez Reservation, California may proceed.

The Department of Anthropology and Geography, Colorado State University is responsible for notifying the Santa Ynez Band of Chumash Mission Indians of the Santa Ynez Reservation, California and the Yuhaaviatam of San Manuel Nation (previously listed as San Manuel Band of Mission Indians, California) that this notice has been published.

Dated: September 14, 2022.
Melanie O'Brien,
Manager, National NAGPRA Program.

[FR Doc. 2022-20296 Filed 9-19-22; 8:45 am]

BILLING CODE 4312-52-P